ENVIRONMENTAL PROTECTION AGENCY

[FRL-7409-6]

Availability of FY 01 Grant Performance Reports for States of Alabama, Florida, Georgia, Mississippi, South Carolina, and Tennessee, and the Commonwealth of Kentucky

AGENCY: Environmental Protection Agency (EPA).

ACTION: Notice of availability of grantee performance evaluation reports.

SUMMARY: EPA's grant regulations (40 CFR 35.150) require the Agency to evaluate the performance of agencies which receive grants. EPA's regulations for regional consistency (40 CFR 56.7) require that the Agency notify the public of the availability of the reports of such evaluations. EPA performed end-of-year evaluations of seven state air pollution control programs (Alabama Department of Environmental Management; Florida Department of Environmental Protection; Georgia Department of Natural Resources; Kentucky Department for Environmental Protection; Mississippi Department of Environmental Quality; South Carolina Department of Health and Environmental Control; and Tennessee Department of Environment & Conservation) and 15 local programs (Jefferson County Department of Health, AL; City of Huntsville Department of Natural Resources, AL; Broward County Environmental Quality Control Board, FL; Jacksonville Air Quality Division, FL; Hillsborough County Environmental Protection Commission, FL; Dade County Environmental Resources Management, FL; Palm Beach County Public Health Department, FL; Pinellas County Department of Environmental Management, FL; Jefferson County, KY; Forsyth County Environmental Affairs Department, NC; Mecklenburg County Department of Environmental Protection, NC; Western North Carolina Regional Air Pollution Control Agency, NC; Chattanooga-Hamilton County Air Pollution Control Bureau, TN; Knox County Department of Air Pollution Control, TN; and Nashville-Davidson County Metropolitan Health Department, TN). The 22 evaluations were conducted to assess the agencies' performance under the grants awarded by EPA under authority of section 105 of the Clean Air Act. EPA Region 4 has prepared reports for each agency identified above and these reports are now available for public inspection. The evaluations for the remainder of the State and local governments will be published at a later date.

ADDRESSES: The reports may be examined at the EPA's Region 4 office, 61 Forsyth Street, SW., Atlanta, Georgia 30303, in the Air, Pesticides, and Toxics Management Division.

FOR FURTHER INFORMATION CONTACT: Marie Persinger (404) 562-9048, for information concerning the States of Alabama and Georgia and the Commonwealth of Kentucky; Gloria Knight, (404) 562-9064, for information concerning the States of Florida and Mississippi; or Rayna Brown for the States of North Carolina, South Carolina, and Tennessee. They may be contacted at the above Region 4 address.

Dated: November 6, 2002.
J.I. Palmer, Jr.,
Regional Administrator, Region 4.

[FR Doc. 02-29173 Filed 11-15-02; 8:45 am]

BILLING CODE 6560-50-P